INTERNATIONAL TRADE COMMISSION

[Investigation No. 337-TA-667 and Investigation No. 337-TA-673]

In the Matter of Certain Electronic Devices, Including Handheld Wireless Communications Devices; Notice of Commission Determination Not To Review an Initial Determination Granting Motion To Amend the Notice of Investigation

AGENCY: U.S. International Trade Commission.

ACTION: Notice.

SUMMARY: Notice is hereby given that the U.S. International Trade Commission has determined not to review the presiding administrative law judge's (“ALJ”) initial determination (“ID”) (Order No. 14C) in consolidated Inv. Nos. 337-TA-667 and 337-TA-673, Certain Electronic Devices Including Handheld Wireless Communications Devices, granting a motion to amend the notice of investigation.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-667 (“the 667 Investigation”) on January 23, 2009, based on a complaint filed by Saxon Innovation, LLC of Tyler, Texas (“Saxon”). 74 FR 4231. The complaint, as amended and supplemented, alleges violations of section 337 of the Tariff Act of 1930, as amended, 19 U.S.C. 1337, in the importation into the United States, the sale for importation, and the sale within the United States after importation of certain electronic devices, including handheld wireless communications devices, by reason of infringement of certain claims of U.S. Patent Nos. 5,235,635 (“the `635 patent”); 5,530,597 (“the `597 patent”); and 5,608,873 (“the `873 patent”). The complaint further alleges the existence of a domestic industry related to each patent. The Commission's notice of investigation named various respondents, including High Tech Computer Corp. of Taoyuan, Taiwan and HTC America, Inc. of Bellevue, Washington (collectively “HTC”). On April 28, 2009, the Commission determined not to review an ID granting under Commission Rule 210.21(b) a joint motion filed by Saxon and HTC to terminate the investigation as to respondent HTC.

The Commission instituted Inv. No. 337-TA-673 (“the 673 Investigation”) on March 31, 2009, based on a complaint filed by Saxon. 74 FR 14578-9. The complaint, as amended and supplemented, alleges violations of section 337 of the Tariff Act of 1930, as amended, 19 U.S.C. 1337, in the importation into the United States, the sale for importation, and the sale within the United States after importation of certain electronic devices, including handheld wireless communications devices, by reason of infringement of certain claims of the `635 patent, the `597 patent, and the `873 patent. The complaint further alleges the existence of a domestic industry related to each patent. The Commission's notice of investigation named as respondents Samsung Electronics Co., Ltd. of Seoul, Korea; Samsung Electronics America, Inc. of Ridgefield Park, New Jersey; and Samsung Telecommunications America, LLP of Richardson, Texas (collectively “Samsung”).

On May 12, 2009, Samsung moved to amend the Notice of Investigation in the 673 investigation to remove the reference to claims 9 and 22 of the `873 patent, arguing that these two claims were not asserted in the complaint and were inadvertently referenced in the Notice of Investigation. No party contested Samsung's assertion. On May 28, 2009, the ALJ issued the subject ID, granting Samsung's motion pursuant to Commission Rule 210.14(b). No petitions for review were filed.

The Commission has determined not to review the ID.

The authority for the Commission's determination is contained in section 337 of the Tariff Act of 1930, as amended (19 U.S.C. 1337), and in section 210.42 of the Commission's Rules of Practice and Procedure (19 CFR 210.42).

By order of the Commission.
Issued: June 19, 2009.
Marilyn R. Abbott,
Secretary to the Commission.

[FR Doc. E9-14942 Filed 6-24-09; 8:45 am]

BILLING CODE 7020-02-P